SMALL BUSINESS ADMINISTRATION

Interagency Task Force on Veterans Small Business Development

AGENCY: U.S. Small Business Administration (SBA).

ACTION: Interagency Task Force on Veterans Small Business Development Meeting notice.

DATES: March 10, 2016, from 9:00 a.m. to 12:00 p.m.

ADDRESSES: SBA Headquarters, 409 3rd Street SW., Washington, DC 20416 Eisenhower Conference Room B, Concourse Level.

Purpose: This public meeting is to discuss recommendations identified by the Interagency Task Force on Veterans Small Business Development (IATF) to further enable veteran entrepreneurship policy and programs. In addition, the Task Force will allow public comments regarding the veteran owned small business focus areas.

SUPPLEMENTARY INFORMATION: Pursuant to section 10(a)(2) of the Federal Advisory Committee Act (5 U.S.C., Appendix 2), SBA announces the meeting of the IATF. The Task Force is established pursuant to Executive Order 13540 and coordinates efforts of federal agencies to improve capital, business development opportunities, and pre-established federal contracting goals for veteran owned small businesses (VOSB) and service-disabled veteran owned businesses (SDVOSB). The Task Force shall coordinate administrative and regulatory activities and develop proposals relating to six focus areas: (1) Access to capital (loans, surety bonding and franchising); (2) Ensure achievement of pre-established contracting goals, including mentor protégé and matching with contracting opportunities; (3) Increase the integrity of certifications of status as a small business; (4) Reducing paperwork and administrative burdens in accessing business development and entrepreneurship opportunities; (5) Increasing and improving training and counseling services; and, (6) Making other improvements to support veteran's business development by the federal government.

Additional Information: Advance notice of attendance is requested. Individuals desiring to attend and/or make a presentation to the Committee must contact Ms. Cheryl Simms, IATF Program Liaison, Office of Veterans Business Development, SBA, at vetstaskforce@sba.gov, by February 26, 2016. Comments for public record should be applicable to the six focus areas listed above and emailed to address above prior to the meeting. Verbal comments will be limited to five minutes to accommodate multiple presenters. Participants requiring special accommodations or additional information should send requests to Ms. Simms at above address. For more information on SBA's veteran owned business programs, please visit www.sba.gov/vets.

Dated: February 2, 2016.
Miguel J. L'Heureux,
SBA Committee Management Officer.

[FR Doc. 2016-02682 Filed 2-9-16; 8:45 am]

BILLING CODE P